FEDERAL MARITIME COMMISSION

[DOCKET NO. 24-17]

Samsung Electronics America, Inc., Complainant, v. Orient Overseas Container Line Limited and OOCL (Europe) Limited, Respondents and Third-Party Complainants, v. Samsung Electronics Company, Ltd., Third-Party Respondent; Notice of Filing of Third-Party Complaint

Served: December 17, 2024.

Notice is given that third-party complaint has been filed with the Federal Maritime Commission (the “Commission”) by Orient Overseas Container Line Limited and OOCL (Europe) Limited (the “Third-Party Complainants”) against Samsung Electronics Company, Ltd. (the “Third-Party Respondent”). Third-Party Complainants state that the Commission has subject-matter jurisdiction over the complaint pursuant to the Shipping Act of 1984, as amended, 46 U.S.C. 40101 et seq., and personal jurisdiction over Third-Party Respondent as a signatory to the service contracts that gave rise to the claims asserted by Samsung Electronics America, Inc. (the “Complainant”) in this proceeding and within which it was designated as the shipper.

Third-Party Complainant Orient Overseas Container Line Limited is a corporation organized and existing under the laws of Hong Kong engaged in business as an ocean common carrier with a principal place of business in Wanchai, Hong Kong.

Third-Party Complainant OOCL (Europe) Limited is a corporation organized and existing under the laws of the United Kingdom engaged in business as an ocean common carrier with a principal place of business in Levington Suffolk, United Kingdom.

Third-Party Complainants identify Third-Party Respondent as a corporation organized and existing under the laws of South Korea engaged in the global electronics business with a principal place of business in Suwon, South Korea.

Third-Party Complainants allege that Third-Party Respondent violated 46 U.S.C. 41102(a). Third-Party Complainants allege this violation arose due to Third-Party Respondent's failure to exercise control over, and/or grant of permission to, its affiliate, Complainant, to engage in unjust or unfair devices or means to obtain or attempt to obtain ocean transportation for property at less than the rates or charges that would otherwise apply by demanding refunds and waivers of future charges, and bringing legal proceedings against ocean carriers.

An answer to the third-party complaint must be filed with the Commission within 25 days after the date of service.

The full text of the third-party complaint can be found in the Commission's electronic Reading Room at https://www2.fmc.gov/readingroom/proceeding/24-17/. The initial decision of the presiding judge shall be issued by March 28, 2025, and the final decision of the Commission shall be issued by October 14, 2025.

David Eng,
Secretary.

[FR Doc. 2024-30552 Filed 12-20-24; 8:45 am]

BILLING CODE P